FEDERAL MARITIME COMMISSION

Ocean Transportation Intermediary License; Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 003152NF.

Name: Cargo Crating Company, Ltd. dba Cargo, Shipping International dba Cargo, Forwarding International.

Address: 6605 Rankin Road, Humble, TX 77396.

Date Revoked: April 1, 2011.

Reason: Failed to maintain valid bonds.

License Number: 018434F.

Name: K & S Freight Systems, Inc.

Address: 2801 NW. 74th Avenue, Suite 219, Miami, FL 33122.

Date Revoked: April 5, 2011.

Reason: Failed to maintain a valid bond.

License Number: 019374NF.

Name: Agents' House International, Inc.

Address: 2825 N. 10th Street, St. Augustine, FL 32164.

Date Revoked: April 8, 2011.

Reason: Failed to maintain valid bonds.

License Number: 019457N.

Name: Veco Logistics USA, Inc.

Address: 5523 NW. 72nd Avenue, Miami, FL 33166.

Date Revoked: April 26, 2011.

Reason: Failed to maintain a valid bond.

License Number: 020119F.

Name: Express Forwarding, Inc.

Address: 12738 N. Florida Avenue, Tampa, FL 33612.

Date Revoked: April 18, 2011.

Reason: Failed to maintain valid bonds.

License Number: 020315NF.

Name: World Cargo Express, Inc.

Address: 9133 S. La Cienega Blvd., Suite 245, Inglewood, CA 90301.

Date Revoked: April 18, 2011.

Reason: Failed to maintain valid bonds.

License Number: 021345NF.

Name: NYK Logistics (Americas) Inc. dba Double, Wing Express dba New Wave Logistics (USA).

Address: 2417 E. Carson Street, Suite 200, Long Beach, CA 90810.

Date Revoked: April 6, 2011.

Reason: Surrendered license voluntarily.

License Number: 020513N.

Name: Oriental Camden Inc. dba Embarque Camden.

Address: 2011 River Road, Camden, NJ 08105.

Date Revoked: April 14, 2011.

Reason: Failed to maintain a valid bond.

License Number: 020677N.

Name: Prominence Cargo Service, Inc.

Address: 17595 Almahurst Road, Suite 201, City of Industry, CA 91748.

Date Revoked: April 24, 2011.

Reason: Failed to maintain a valid bond.

License Number: 021354N.

Name: Jaemar International Inc.

Address: 6420 Richmond Avenue, Suite 440, Houston, TX 77057.

Date Revoked: April 24, 2011.

Reason: Failed to maintain a valid bond.

License Number: 021470N.

Name: Pacer Container Line, Inc.

Address: 6805 Perimeter Drive, Dublin, OH 43016.

Date Revoked: April 21, 2011.

Reason: Failed to maintain a valid bond.

License Number: 022268NF.

Name: USI-USA, Inc.

Address: 13030 Fellowship Way, Reno, NV 89511.

Date Revoked: April 22, 2011.

Reason: Failed to maintain valid bonds.

License Number: 022370NF.

Name: JP Shipping and Son, Inc.

Address: 7860 NW 80th Street, Medley, FL 33166.

Date Revoked: April 25, 2011.

Reason: Failed to maintain valid bonds.

License Number: 022416NF.

Name: Transaction Publishers, Inc. dba Express Book Freight a Division of Transaction Publishers, Inc.

Address: 35 Berrue Circle, Piscataway, NJ 08854-8042.

Date Revoked: March 30, 2011.

Reason: Surrendered license voluntarily.

Tanga S. FitzGibbon,
Deputy Director, Bureau of Certification and Licensing.

[FR Doc. 2011-11602 Filed 5-11-11; 8:45 am]

BILLING CODE 6730-01-P